ENVIRONMENTAL PROTECTION AGENCY

[FR1-8525-7]

Human Impacts of Climate Change Advisory Committee (HICCAC)

AGENCY: Notice of a public conference call meeting; Correction.

SUMMARY: The EPA indicated that reports being reviewed by the HICCAC would be incorporated into a scientific assessment to be published by the U.S. Climate Change Science Program and that the public would have a chance to review and comment on the scientific assessment in April 2008. The availability of the scientific assessment for public review and comment is incorrect.

FOR FURTHER INFORAMTION CONTACT: Joanna Foellmer, Designated Federal Official, HICCAC, by telephone: 703-347-8508, by e-mail: foellmer.joanna@epa.gov, by fax: 703-347-8694, or by regular mail: Joanna Foellmer, ORD/NCEA (Mail Code 8601P), U.S. Environmental Protection Agency, 1200 Pennsylvania Avenue, NW., Washington, DC 20460.

Correction

In the Federal Register of January 7, 2008, in FR Doc. 38-22, on page 1222, in the second column, change the last two sentences before the Public Participation section to read:

The CCSP expects that the scientific assessment will be completed by May 31, 2008. The scientific assessment will undergo an external peer review consistent with the OMB peer review guidance for a Highly Influential Scientific Assessment (HISA). For details on the scientific assessment review please go to: http://www.cio.noaa.gov/itmanagement/prplans/ID102.html.

January 25, 2008.
Michael W. Slimak,
Acting Deputy Director, National Center, for Environmental Assessment.

[FR Doc. 08-492 Filed 2-4-08: 8:45 am]

BILLING CODE 6560-60-M